DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 29, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Volunteer Service Agreements and Volunteer Service Time and Attendance Record.

OMB Control Number: 0579-0477.

Summary of Collection: Section 1526 of the Agriculture and Food Act of 1981 [7 U.S.C. 2272] permits the Secretary of Agriculture to establish a program to use volunteers in carrying out programs of the United States Department of Agriculture (USDA).

The regulations in title 5 Code of Federal Regulations (CFR), Administrative Personnel, part 308, authorizes an agency to establish programs designed to provide educationally related volunteer assignments for students.

APHIS will collect information using MRP forms, 126A, Student Service Agreement and Recordkeeping; MRP 126B, Nonstudent Volunteer Service Agreement; and MRP 126C, Volunteer Time and Attendance Record.

Need and Use of the Information: This information collection is necessary to: (a) facilitate establishment of guidelines for acceptance of volunteer services under the above authorities; (b) make a determination of individuals' eligibility and suitability to serve as a volunteer in the Marketing and Regulatory Programs (MRP), USDA; and (c) comply with the Office of Personnel Management (OPM) regulation to require documentation of volunteer service. If this information collection is not conducted, MRP would not be able to determine the individual's eligibility and suitability to serve as a volunteer.

Description of Respondents: Individuals or households and businesses.

Number of Respondents: 86.

Frequency of Responses: Reporting; On occasion; Quarterly.

Total Burden Hours: 151.

Ruth Brown,
Departmental Information Collection Clearance Officer.

[FR Doc. 2023-23892 Filed 10-27-23; 8:45 am]

BILLING CODE 3410-34-P